DEPARTMENT OF EDUCATION

Integrated Postsecondary Education Data System (IPEDS) 2013-2016; Extension of Public Comment Period; Correction

AGENCY: Department of Education.

ACTION: Correction notice.

SUMMARY: On October 2, 2013, the U.S. Department of Education published a 30-day comment period notice in the Federal Register (Page 60864, Column 2) seeking public comment for an information collection entitled, “Integrated Postsecondary Education Data System (IPEDS) 2013-2016”. The comment period for this information collection request has been extended to November 14, 2013.

The Acting Director, Information Collection Clearance Division, Privacy, Information and Records Management Services, Office of Management, hereby issues a correction notice as required by the Paperwork Reduction Act of 1995.

Dated: October 18, 2013.
Stephanie Valentine,
Acting Director, Information Collection Clearance Division, Privacy, Information and Records Management Services, Office of Management.

[FR Doc. 2013-24808 Filed 10-22-13; 8:45 am]

BILLING CODE 4000-01-P